SMALL BUSINESS ADMINISTRATION

[Disaster Declaration # 12545 and # 12546]

Alabama Disaster Number AL-00036

AGENCY: U.S. Small Business Administration.

ACTION:

Amendment 2.

SUMMARY: This is an amendment of the Presidential declaration of a major disaster for the State of Alabama (FEMA-1971-DR), dated 04/28/2011.

Incident: Severe Storms, Tornadoes, Straight-line Winds, and Flooding.

Incident Period: 04/15/2011 and continuing.

Effective Date: 05/02/2011.

Physical Loan Application Deadline Date: 06/27/2011.

Loan Application Deadline Date: 01/30/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Alabama, dated 04/28/2011 is hereby amended to include the following areas as adversely affected by the disaster:

Primary Counties: (Physical Damage and Economic Injury Loans):Bibb, Blount, Cherokee, Choctaw, Colbert, Fayette, Greene, Hale, Jackson, Limestone, Madison, Morgan, Washington, Winston.

Contiguous Counties: (Economic Injury Loans Only):

Alabama: Baldwin, Mobile

Georgia: Floyd, Polk

Mississippi: Clarke, Greene, Wayne,

Tennessee: Franklin, Giles, Lincoln, Marion.

All other information in the original declaration remains unchanged.

(Catalog of Federal Domestic Assistance Numbers 59002 and 59008)

James E. Rivera,
Associate Administrator for Disaster Assistance.

[FR Doc. 2011-11429 Filed 5-9-11; 8:45 am]

BILLING CODE 8025-01-P